DEPARTMENT OF THE INTERIOR

Performance Review Board Appointments

AGENCY: Department of the Interior.

ACTION: Notice of Performance Review Board Appointments.

SUMMARY: This notice provides the name of individuals who have been appointed to serve as members of the Department of the Interior Performance Review Board.

DATES: These appointments are effective upon publication in the Federal Register.

FOR FURTHER INFORMATION CONTACT: Sharlyn Grigsby, Director, Office of Human Resources, Office of the Secretary, Department of the Interior, 1849 C Street, NW., Washington, D.C. 20240, Telephone Number: (202) 208-6761.

Dated: October 25, 2007.
Sharlyn A. Ungsby,
Director, Office of Human Resources.

2007 Performance Review Board Eligibles
ABEITA, ETHEL J | DIRECTOR, OTR
ACHTERBERG, DAVID G | DIR, SECURITY,SAFETY &LAW ENFORCEMENT
ANSPACH, ALLEN J | REGIONAL DIRECTOR
ARHA, KAUSHALENDRA | ASSOC SOLICITOR-IND AFF
ARROYO, BRYAN | DEP ASST DIR-ENDG SPECIES
ASHE, DANIEL M | FISH AND WILDLIFE ADVISOR
BAKER, KAREN D | ASSOC DIR FOR ADMIN POLICY & SERVICES
BATHRICK, MARK L | ASSOCIATE DIRECTOR,AVIATION MANAGEMENT
BAYANI, THERESA WALSH | PROGRAM DIRECTOR FOR
BECK, RICHARD T | DIRECTOR, OFFICE OF PLANNING &
BECKMANN, DARRYL H | DIRECTOR, ADMINISTRATION
BEIGHLEY, MARK H | DIRECTOR OFFICE OF WILDLAND
BENNETT, ROBERT A | STATE DIRECTOR
BHAGOWALIA, SANJEEV NMN | CHIEF INFORMATION OFFICER
BISSON, HENRI R | DEPUTY DIRECTOR
BLACKWELL, EDITH R | DEP ASSOC SOL-INDIAN AFFAIRS
BLANCHARD, MARY JOSIE | DEPUTY DIRECTOR
BLASZAK, MARCIA D | REGIONAL DIRECTOR, ALASKA REGION
BOGERT, L. MICHAEL | COUNSELOR TO THE SECRETARY
BOURGEOIS, DOUGLAS J | DIRECTOR, NATIONAL BUSINESS CENTER
BRADLEY, OMAR | REGIONAL DIRECTOR
BREECE, CHARLES E | ATTORNEY-ADVISOR (GENERAL)
BROWN, ROBERT E | ASSOC DIR FOR ADMIN AND BUDGET
BURCH, MELVIN E | REGIONAL FIDUCIARY TRUST
BURCKMAN, JAMES N | HUMAN RESOURCES PROJECT LEADER
BURKS, MARIA A | EXECUTIVE DIRECTOR
BURMAN, BRENDA W | DEPUTY ASSISTANT SECRETARY
BURZYK, CARLA M | CHIEF, OFFICE OF BUDGET & PERFORMANCE
BUTLER, MITCHELL J | DEPUTY ASSISTANT SECRETARY
CARSWELL, WILLIAM J JR | DIRECTOR, NATIONAL GEOSPATIAL
CASADEVALL, THOMAS J | REGIONAL DIRECTOR, CENTRAL REGION
CASON, JAMES E | ASSOCIATE DEPUTY SECRETARY
CESAR, NILES C. | REGIONAL DIRECTOR
CHACON-ALLEVA, DOLORES L | PRESIDENT, DOI UNIVERSITY
CHANEY, CHRISTOPHER B | DEPUTY DIRECTOR, INDIAN SERVICES
CHICHARELLO, ELOUISE | SPECIAL ASST TO THE DIRECTOR, BIA
CLARK, DEBBIE LYNN | DEPUTY ASSISTANT SECRETARY-MGMT
CLARK, HORACE G | REGIONAL SOLICITOR
COHEN, DAVID B | DEPUTY ASSISTANT SECRETARY
COMER, ROBERT D | REGIONAL SOLICITOR
CONTE, ANTHONY R | REGIONAL SOLICITOR
CORDOVA-HARRISON, ELIZABE | DIR, MANAGEMENT SERVICES OFFICE
COTTER, GLADYS A | ASSOC CHIEF BIOL FOR INFO
CRAFF, ROBERT C | REG FIDUCIARY TRUST ADMINISTRATOR
CRUICKSHANK, WALTER D | DEP DIR/MINERALS MGMT SERV
DALY, ELENA C | AD, NAT'L LANDSCAPE CONSER SYS
DANENBERGER, ELMER P | CHIEF, OFFSHORE REGULATORY
DAVIS, MARK H | CHIEF, DIV OF BUDGET &
DEERINWATER, DANIEL J | REGIONAL DIRECTOR
DELAPLAINE, L. BRUCE | GENERAL COUNSEL.
DELUISE, FRANK M | DIR, NAT RES DAMAGE ASSESSMENT
DENETT, LUCY QUERQUES | ASSOC DIR FOR MIN REV MGMT
DICKINSON, WILLIAM K | PARK MANAGER (SUPERINTENDENT)
DITMANSON, DALE A | PARK MANAGER-(SUPERINTENDENT)
DOHERTY, CLARE C | DEPUTY DIRECTOR, OFFICE OF BUDGET
DOMENECH, DOUGLAS W | DEPUTY CHIEF OF STAFF
DOUGLAS, JAMES C | ASSISTANT DIRECTOR, FIRE AND AVIATION
DOWD, THOMAS M | DIRECTOR, OFC OF INDIAN ED PROGRAMS
DOYLE, ROBERT E JR | DEPUTY DIRECTOR
DUPUY, JOHN EDWARD | DEPUTY ASST INSPECTOR GENERAL
DYER, THOMAS H | STATE DIRECTOR
EAMES, MATTHEW C | DIRECTOR, CONGRESSIONAL AND
EDWARDS, BERT T | EXECUTIVE DIRECTOR, OFFICE OF
ELLER, SHARON D | DIRECTOR, OFFICE OF CIVIL RIGHTS
ELMORE, KIMBERLY | DEP ASST INSP GEN FOR AUDITS
ERWIN, DONNA MARIE | PRINCIPAL DEPUTY SPECIAL
ETHRIDGE, MAX M | REG GEOGRAPHER, CENTRAL REGION
FABER, ROBERT C | ASSOC SOL-PARKS & WILDLIFE
FERGUSON, MICHAEL A | ASSISTANT DIRECTOR, BUSINESS
FERRITER, OLIVIA B | DIR. CONSERVATION, PARTNERSHIPS &
FEUERSTEIN, RANDY R | CHIEF INFORMATION OFFICER
FINFER, LAWRENCE A | DEPUTY DIRECTOR, OFFICE OF
FLETCHER, DANIEL L. JR | DIR-OFF OF FIN MGMT & DEP CFO
FORREST, VICKI L | DEPUTY DIRECTOR-TRUST SERVICES
FRAZER, GARY D | FISH & WILDLIFE ADMINISTRATOR
FREEMAN, SHAREE M | DIRECTOR, OFC OF SELF-GOV
GABALDON, MICHAEL R | DIR, TECHNICAL SERVICE CTR
GARY, ARTHUR E | ASSOCIATE SOLICITOR-GENERAL LAW
GIDNER, JEROLD L | DIRECTOR, BUREAU OF INDIAN AFFAIRS
GOKLANY, INDUR M | MGR. SCIENCE & ENGINEERING
GOLD, RICK L | REGIONAL DIRECTOR
GOLL, JOHN T | REGNL DIRECTOR, ALASKA OCS RGN
GONZALES-SCHREINER, ROSEA | DIRECTOR, PROGRAM & POLICY SERVICES
GOULD, ROWAN W | AD-WLDLFE & SPORT FISH RES PRO
GRAY, LORRI J | REGIONAL DIRECTOR
GREGORY, CLAYTON JOHN | REGIONAL DIRECTOR-PACIFIC
GRIGSBY, SHARLYN A | DIRECTOR, OFFICE OF HUMAN RESOURCES
GUNDERSEN, LINDA C | CHIEF SCI FOR GEOLOGY
HAMILTON, SAMUEL D | REGIONAL DIRECTOR-ATLANTA
HANNA, JEANETTE D | REGIONAL DIRECTOR
HARDGROVE, STEPHEN A | ASST. IG FOR INVESTIGATIONS
HARRIS, JAMES D | ASSOC SOLICITOR-MINERAL RESOURCES
HARTLEY, DEBORAH J | CHIEF INFORMATION OFFICER
HASELTINE, SUSAN D | ASSOCIATE DIRECTOR FOR BIOLOGY
HASKETT, GEOFFREY L | CHIEF, NATL WLDLFE REFUGE SYSTEM
HASPEL, ABRAHAM E | ASSISTANT DEPUTY SECRETARY
HATFIELD, NINA R | DAS-BUSINESS MGMT & WILDLAND FIRE
HAZE, PAMELA K | DIRECTOR, OFFICE OF BUDGET
HEINTZ, H. THEODORE JR | AST DIR FOR ECONOMIC ANALY
HENNE, PAUL W | ASST DIR-BMO
HIRSCH, ROBERT M | ASSOCIATE DIRECTOR FOR WATER
HOFFMAN, PAUL D | DAS-PERFORMANCE, ACCOUNTABILTY
HOWELL, MICHAEL J JR | CHIEF INFORMATION OFFICER
HROBSKY, JON A | DEPUTY DIRECTOR FOR POLICY
IUDICELLO, FAY S | DIRECTOR, EXEC SEC & REG AF
JACOBSON, JULIE A | DEPUTY ASSISTANT SECRETARY
JAEGER, ROBERT R | DIR, INDIAN LAND CONSOL CTR
JAMES, JIM D | REGIONAL FIDUCIARY
JARVI, CHRISTOPHER K | AD, PART, INTERP & ED, VOL & OUT REC
JARVIS, JONATHAN B | REG. DIR. PACIFIC WEST REG
JENSEN, LAWRENCE J | DEPUTY SOLICITOR
JOHNSON, LYNN A | REGIONAL SOLICITOR
JONES, KENNETH B | CHIEF SCIENTIST FOR GEOGRAPHY
JORJANI, DANIEL H | COUNSELOR TO THE DEPUTY SECRETARY
KEABLE, EDWARD T | ASSOCIATE SOLICITOR, ADMINISTRATION
KEARNEY, CHRISTOPHER B | DEPUTY ASSISTANT SECRETARY FOR
KEEGAN, MICHAEL J | ASSOC DIR, FACILITY & PROPERTY MGT
KEEL, M. FRANKLIN | REGIONAL DIRECTOR
KENDALL, MARY L | DEPUTY INSPECTOR GENERAL
KIMBALL, DANIEL B | PARK MANAGER (SUPERINTENDENT)
KIMBALL, SUZETTE M | REGIONAL DIRECTOR, EASTERN REGION
KINSINGER, ANNE E | REGIONAL DIRECTOR-WESTERN REGION
KLEIN, ALLEN D | REGIONAL DIRECTOR
KREISHER, ERNESTINE W | DIRECTOR, OFFICE OF COMMUNICATIONS
KRUMSIEK, PAUL A | HUMAN RESOURCE PROJECT LEADER
LABELLE, ROBERT P | DEPUTY ASSOC. DIRECTOR FOR
LANE, RONGERLIS C L | AD, INFORMATION RESOURCES MGMT
LARSEN, MATTHEW C | CHIEF SCIENTIST FOR HYDROLOGY
LAWLER, JOSEPH M | REGIONAL DIRECTOR, NATIONAL
LAWS, JULIA M | ASSISTANT DIRECTOR FOR HR SYSTEMS
LEHMAN, DAVID T | SENIOR ADVISOR TO THE SECRETARY
LEMON, JOHN R | DIRECTOR, NCTC
LEWIS, SUZANNE | PARK MANAGER (SUPERINTENDENT)
LOFTIN, MELINDA J | DESIG. AGENCY ETHICS OFFICIAL
LOHOEFENER, RENNE R | REGIONAL DIRECTOR-PORTLAND
LONNIE, THOMAS P | STATE DIRECTOR
LORDS, DELANO J | DIRECTOR TRUST REVIEW & AUDIT
LORDS, DOUGLAS A | DEP SPEC TRUSTEE FIELD OPS
LUTHI, RANDALL B | DIRECTOR
LYDER, JANE M | LEGISLATIVE COUNSEL
MALAM, PAMELA R | ASSOCIATE DIRECTOR FOR HUMAN CAPITAL
MARTIN, STEPHEN P | PARK MANAGER
MASICA, SUE E | CHIEF OF STAFF
MATTHEWS, JANET S | ASSOC DIRECTOR, CULTURAL RESOURCES
MAY, JAMES G | EXEC DIR, SO FLA ECO REST
MCDONALD, JOHN W | REGIONAL DIRECTOR
MCKENNA, ROBERT C | CHIEF INFORMATION OFFICER
MCKEOWN, MATTHEW J | DEPUTY ASSOCIATE SOLICITOR
MEAGHER, EDWARD F | DEPUTY CHIEF INFORMATION OFFICER
MELIUS, THOMAS 0 | REGIONAL DIRECTOR-ANCHORAGE
MIDDLETON, ROBERT W | DIRECTOR, INDIAN ENERGY RESOURCES DEV
MIKUNI, ALAN M | REGIONAL GEOGRAPHER, WR
MILLER, MARY JANE A | BUDGET OFFICER
MORE, ROBERT S | DIRECTOR, OFFICE OF HEARINGS
MORIARTY, MARVIN E | REGIONAL DIRECTOR
MORRIN, LAWRENCE H | REGIONAL DIRECTOR
MOSHER, JAMES A | DEPUTY ASSISTANT SECRETARY
MOYLE, THOMAS R. III | DEPUTY AIG FOR OFFICE OF MANAGEMENT
MURPHY, TIMOTHY M | DEPUTY ASSISTANT DIRECTOR
MYERS, RICHARD G | REGIONAL SOLICITOR-ALASKA REGION
NEDD, MICHAEL D | AD, MINS, REAL, & RES PRO
NYCE, JOHN W | ASSOC DIRECTOR, ACQUISITION SERVICES
OLSEN, MICHAEL D | DEPUTY ASSISTANT SECRETARY
O'NEILL, BRIAN | PARK MANAGER
ONLEY, KAMERAN L | ASSISTANT DEPUTY SECRETARY
OWENS, GLENDA HUDSON | DEPUTY DIRECTOR-OSM
OYNES, CHRIS C | ASSOCIATE DIRECTOR FOR
PARISIAN, EDWARD F | REGIONAL DIRECTOR
PARKER, MAMIE A | ASST DIR-FISHERIES HABITAT CONSERV
PARKINSON, LARRY R | DAS-LAW ENFORCEMENT & SECURITY
PAYNE, GRAYFORD F | CHIEF FINANCIAL OFFICER
PETERSON, LYNN | REGIONAL SOLICITOR
PETTIS, RENEE M | ASSISTANT INSPECTOR GENERAL
PETTY, TIMOTHY R | DEPUTY ASSISTANT SECRETARY
PONCE, STANLEY L | SNR LIAISON-INTERAGENCY PROGRAMS
POOL, MICHAEL J | STATE DIRECTOR
POWERS, MICHAEL T | ASSOC DIR FOR FIN RPTING & SYSTEMS
PULA, NIKOLAO IULI | DIRECTOR, OFFICE OF INSULAR AFFAIRS
QUINT, ROBERT J | DIRECTOR, WASHINGTON OPERATIONS
QUINTANA, ERNEST | REGIONAL DIRECTOR, MIDWEST REGION
RAGSDALE, WILLIAM PATRICK | DEPUTY DIRECTOR-JUSTICE SERVICES
REVER, JOHN N | DIR FAC, ENV, SAF & CUL RES MGMT
REYNOLDS, THOMAS G | REGIONAL FIDUCIARY TRUST ADMIN
RICHARDS, ANNE L | ASST INSPECTOR GENERAL FOR AUDITS
RIDEOUT, STERLING J. JR | ASST DIRECTOR-PROGRAM SUPPORT
ROBERSON, EDWIN L | AD, RENEWABLE RES & PLANNING
ROTH, BARRY N | DEPUTY ASSOCIATE SOLICITOR
RUGEN, CATHERINE E | REGIONAL FIDUCIARY TRUST
RUNDELL, LINDA S C | STATE DIRECTOR
RUSS, DAVID P | REGIONAL GEOLOGIST
RUSSELL, MAJEL M | PRINCIPAL DEP ASST SEC-INDIAN AFFAI
RYAN, BARBARA J | ASSOC. DIRECTOR FOR GEOGRAPHY
RYAN, MICHAEL J | REGIONAL DIRECTOR
SAFFARINIA, EGHBAL | ASSISTANT INSPECTOR GENERAL
SALT, TERRENCE C | DIRECTOR EVERGLADES
SANT, DONALD T | SENIOR POLICY ADVISOR
SCHABACKER, CHRISTINE M | DIR, OFC OF POLICY ANALYSIS
SCHMIDT, PAUL RUDOLPH | ASST DIR-MIG BIRDS & STATE PROG
SCHOLZ, DONNA K | FIRE PROGRAM ANALYSIS PROJECT DIR
SCOTT, MARY GIBSON | PARK MANAGER (SUPERINTENDENT)
SEXTON, WILLIAM T | REGIONAL HYDROLOGIST, WR
SHEAFFER, C. BRUCE | FINANCIAL ADVISOR (COMPTROLLER)
SHEEHAN, DENISE E | ASST-DIR BUDGET, PLNG & HR
SHEPARD, EDWARD W | STATE DIRECTOR
SHILLITO, DANIEL G | REGIONAL SOLICITOR
SIDERELIS, KAREN C | ASSOC DIR FOR GEOSPATIAL INFORMATION
SIERRA, SELMA | STATE DIRECTOR
SIMPSON, JERRY W | ASSISTANT DIRECTOR, WORKFORCE MGMT
SINGER, MICHELE F | DIR, OFC OF REGULATORY MGMT
SKENANDORE, KEVIN B | ASSOCIATE DEPUTY DIRECTOR-WEST
SKIBINE, GEORGE T C | DIRECTOR, OFC OF INDIAN GAMING MGMT
SMITH, GARY L | DIR, EXT & INTERGOVERNMENTAL AFFAIRS
SMITH, MICHAEL R | DEPUTY DIRECTOR, FIELD OPS
SMYTH, PAUL B | DIR, INDIAN TRUST LIT OFC
SNYDER, MICHAEL D | REGIONAL DIRECTOR, INTERMTN. REGION
SONDERMAN, DEBRA E | DIR/ACQUISITION & PROP. MGMT
SOUKUP, MICHAEL A | ASSOC DIR, NATURAL RESOURCES
SPEAKS, STANLEY M | REGIONAL DIRECTOR
STANSELL, KENNETH B | DEPUTY DIRECTOR
STEVENS, ELIZABETH H | ASST DIR-EXTERNAL AFFAIRS
STITH, E. MELODEE | ASSOCIATE DIRECTOR, ACQ & FIN ASST
SZARO, ROBERT C | CHIEF SCIENTIST FOR BIOLOGY
TAYLOR, WILLIE R | DIR, OFC ENV POL AND COMPL
TAYLOR-GOODRICH, KAREN F | ASSOC DIR, VISITOR & RESOURCE PROTECT
TERLAND, GENE R | STATE DIRECTOR
THOMPSON, STEVEN P | FISH & WILDLIFE ADMINISTRATOR
THORSEN, KIMBERLEY A | DIRECTOR, OFFICE OF LAW ENFORCEMENT
THORSON,ROBYN | REGIONAL DIRECTOR-TWIN CITIES, MN
TODD, LARRY L | DEP COM, POLICY, ADMIN, & BUDGET
TOLLEFSON, MICHAEL J | PARK MANAGER (SUPERINTENDENT)
TRIEBSCH, GEORGE F | ASSOCIATE DIRECTOR FOR POLICY
TSCHUDY, DEBORAH GIBBS | DEPUTY ASSOCIATE DIRECTOR FOR
TUGGLE, BENJAMIN N | REGIONAL DIRECTOR, ALBUQUERQUE
UPDIKE, RANDALL G | REGIONAL GEOLOGIST-CENTRAL REGION
VELASCO, JANINE M | ASSISTANT DIRECTOR
VERHEY, DAVID M | DEPUTY ASSISTANT SECRETARY
VIRDEN, TERRANCE LEE | REGIONAL DIRECTOR-MIDWEST
WADE, FOSTER L | DEPUTY ASSISTANT SECRETARY
WAHLQUIST, BRENT T | REGIONAL DIRECTOR
WAIDMANN, BRIAN | CHIEF OF STAFF
WAINMAN, BARBARA W | DIRECTOR, OFFICE OF
WARD, A. WESLEY JR | REGIONAL GEOLOGIST, WESTERN REGION
WEAVER, JESS D | REGIONAL HYDROLOGIST-SOUTHEAST REG
WEISMAN, SANDRA L | CHIEF, FINANCIAL ADVISOR
WENK, DANIEL N | DEPUTY DIRECTOR, OPERATIONS
WENKER, RONALD B | STATE DIRECTOR
WHEELER, KATHLEEN J H | DEPUTY CHIEF HUMAN
WILLENS, TODD D | DEPUTY ASSISTANT SECRETARY
WILLIAMS, L C | ASSOCIATE DIRECTOR, FPPSSD
WILLIAMS, MARGARET C | DEP SPEC TRUSTEE-TRUST ACCOUNTABILITY
WISELY, SARAH E | STATE DIRECTOR
WOLF, ROBERT W | DIR, PROGRAM & BUDGET
WOOD, MICHAEL F | CHIEF OF STAFF
WOODY, WILLIAM C | DIR. LAW ENFORCE, SEC. & PROT
WORONKA, THEODORE | ASST DIR-FOR FINANCE & ADMIN
ZIELINSKI, ELAINE Y | STATE DIRECTOR
ZIPPIN, JEFFREY P | DEPUTY DIRECTOR, OHTA

[FR Doc. 07-5432 Filed 10-31-07; 8:45 am]

BILLING CODE 4310-RK-M